DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing an update to the identifying information of one entity currently included on OFAC's list of Specially Designated Nationals and Blocked Persons (SDN List).

DATES: See SUPPLEMENTARY INFORMATION section for applicable date(s).

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action(s)

On July 30, 2020, OFAC updated the entry on the SDN List for the following entity, whose property and interests in property continue to be blocked under the Cuban Assets Control Regulations (31 CFR part 515).

Entity

1. HAVANA INTERNATIONAL BANK, LTD., 20 Ironmonger Lane, London EC2V 8EY, United Kingdom [CUBA].

The listing for the entity now appears as follows:

HAVIN BANK LIMITED (a.k.a. HAVANA INTERNATIONAL BANK, LTD), 4th Floor, 189 Marsh Wall, London E14 9SH, United Kingdom; Edificio Atlantic, Oficina 4 H, Calle D No. 8 entre 1ra. y 3ra., Vedado, Plaza de la Revolucion, Havana 10400, Cuba; SWIFT/BIC HAVIGB2L; website www.havanaintbank.co.uk; alt. Website www.hib.uk.com; Company Number 01074897 (United Kingdom) [CUBA].

Dated: July 30, 2020.
Andrea Gacki,
Director, Office of Foreign Assets Control, U.S. Department of the Treasury.

[FR Doc. 2020-16939 Filed 8-3-20; 8:45 am]

BILLING CODE 4810-AL-P